ARCHITECTURAL AND TRANSPORTATION BARRIERS COMPLIANCE BOARD

Meetings

AGENCY: Architectural and Transportation Barriers Compliance Board.

ACTION: Notice of meetings.

SUMMARY: The Architectural and Transportation Barriers Compliance Board (Access Board) plans to hold its regular committee and Board meetings in Washington, DC, Monday through Wednesday, March 10-12, 2014 at the times and location listed below.

DATES: The schedule of events is as follows:

Monday, March 10, 2014

10:15-11:30 a.m. Ad Hoc Committee Meetings: Closed to public

11:30-Noon Budget Committee

1:30-2:30 p.m. Ad Hoc Committee Meetings: Closed to public

3:00-4:00 p.m. Ad Hoc Committee on Frontier Issues

Tuesday, March 11, 2014

9:30-11:30 a.m. Guest Speaker Presentations

11:30-Noon Technical Programs Committee

1:30-2:00 p.m. Planning and Evaluation Committee

2:00-4:00 Ad Hoc Committee: Closed to Public

Wednesday, March 12, 2014

9:30-11:00 a.m. Board Meeting

ADDRESSES: Meetings will be held at the Access Board Conference Room, 1331 F Street NW., Suite 800, Washington, DC 20004.

FOR FURTHER INFORMATION CONTACT: For further information regarding the meetings, please contact David Capozzi, Executive Director, (202) 272-0010 (voice); (202) 272-0054 (TTY).

SUPPLEMENTARY INFORMATION: At the Board meeting scheduled on the morning of Wednesday, March 12, 2014, the Access Board will consider the following agenda items:

• Approval of the draft January 15, 2014 meeting minutes (vote)

• Ad Hoc Committee Reports: Self-Service Transaction Machines; Information and Communications Technologies; Classroom Acoustics; Passenger Vessels; Medical Diagnostic Equipment; Accessible Design in Education; Public Rights-of-Way and Shared Use Paths; Frontier Issues; and Transportation Vehicles

• Budget Committee

• Technical Programs Committee

• Planning and Evaluation Committee

• Election Assistance Commission Report

• Election of Officers

• Executive Director's Report

All meetings are accessible to persons with disabilities. An assistive listening system, Communication Access Realtime Translation (CART), and sign language interpreters will be available at the Board meeting and committee meetings. Persons attending Board meetings are requested to refrain from using perfume, cologne, and other fragrances for the comfort of other participants (see www.access-board.gov/the-board/policies/fragrance-free-environment for more information).

David M. Capozzi,
Executive Director.

[FR Doc. 2014-03526 Filed 2-18-14; 8:45 am]

BILLING CODE 8150-01-P